FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011275-039.

Title: Australia and New Zealand-United States Discussion Agreement.

Parties: CMA CGM, S.A. and ANL Singapore Pte Ltd. (acting as a single party); Hamburg-Süd KG; and MSC Mediterranean Shipping Company S.A.

Filing Party: Wayne R. Rohde, Esq.; Cozen O'Connor LLP; 1200 Nineteenth St. NW.; Washington, DC 20036.

Synopsis: The amendment would delete Hapag-Lloyd AG as a party to the Agreement, remove an outdated reference to a former member from Appendix A, and revise Appendix B to the Agreement.

Agreement No.: 012067-016.

Title: U.S. Supplemental Agreement to HLC Agreement.

Parties: BBC Chartering Carriers GmbH & Co. KG and BBC Chartering & Logistic GmbH & Co. KG, as a single member; Chipolbrok (Chinese-Polish Joint Stock Shipping Company); Hanssy Shipping Pte. Ltd.; Hyundai Merchant Marine Co., Ltd.; Industrial Maritime Carriers, L.L.C.; Nordana Line A/S; and Rickmers-Linie GmbH & Cie. KG.

Filing Party: Wade S. Hooker, Esq.; 211 Central Park W.; New York, NY 10024.

Synopsis: The amendment would delete Hyundai Merchant Marine and Nordana Line A/S as parties to the U.S. Agreement and the worldwide HLC Agreement, and change the name of Rickmers-Linie GmbH & Co. KG to NPC Projects AS/Rickmers-Linie GmbH & Co. KG as a party to both Agreements.

Agreement No.: 012425.

Title: APL/ANL Space Charter Agreement.

Parties: ANL Singapore Pte Ltd.; APL Co. Pte Ltd; and American President Lines, Ltd.

Filing Party: Draughn B. Arbona, Esq; CMA CGM (America) LLC; 5701 Lake Wright Drive, Norfolk, VA 23502.

Synopsis: The agreement authorizes APL to charter space to ANL in the trade between China and Korea on the one hand, and the U.S. East Coast on the other hand.

By Order of the Federal Maritime Commission.
Dated: July 15, 2016.
Karen V. Gregory,
Secretary.

[FR Doc. 2016-17079 Filed 7-19-16; 8:45 am]

BILLING CODE 6731-AA-P